DEPARTMENT OF THE INTERIOR

Bureau of Land Management

[LLAK941000.L14100000.ET0000.212]

Notice of Intent To Prepare an Environmental Assessment To Consider Opening Lands Subject to ANCSA 17(d)(1) Withdrawals to Selection Under the Alaska Native Vietnam-Era Veterans Land Allotment Program of 2019

AGENCY: Bureau of Land Management, Interior.

ACTION: Notice of intent.

SUMMARY: In accordance with the National Environmental Policy Act of 1969 (NEPA), as amended; the Federal Land Policy and Management Act of 1976 (FLPMA), as amended; the Alaska National Interest Lands Conservation Act of 1980 (ANILCA), as amended; the Alaska Native Claims Settlement Act (ANCSA), as amended; and the John D. Dingell, Jr. Conservation, Management, and Recreation Act of 2019 (Dingell Act), the Bureau of Land Management (BLM) intends to prepare an Environmental Assessment (EA) to consider the effects of opening lands withdrawn pursuant to Section 17(d)(1) of ANCSA to selection by eligible individuals under the Dingell Act.

DATES: This notice initiates the public scoping process for the EA. Comments on relevant issues may be submitted in writing by September 21, 2021. The deadline to submit public comment is September 21, 2021.

ADDRESSES: You may submit comments on issues related to the proposed project by any of the following methods:

• ePlanning Website: https://eplanning.blm.gov/eplanning-ui/project/2014748/510.

• Mail: 222 W. 7th Avenue, Stop #13, Anchorage, Alaska 99513.

• More details and instructions for submitting public comment can be found on the BLM ePlanning website at https://eplanning.blm.gov/eplanning-ui/project/2014748/510.

Documents pertinent to this proposal may be examined at the ePlanning website.

FOR FURTHER INFORMATION CONTACT: Serena Sweet at (907) 271-4534, or by email at ssweet@blm.gov on questions specific to NEPA, and Paul Krabacher at (907) 271-5681, or by email at pkrabach@blm.gov, on questions specific to the Native Vietnam-Era Veterans Land Allotment Program of 2019. People who use a telecommunications device for the deaf (TDD) may call the Federal Relay Service (FRS) at 1-800-877-8339 to contact the above individual during normal business hours. The FRS is available 24 hours a day, 7 days a week, to leave a message or question. You will receive a reply during normal business hours.

SUPPLEMENTARY INFORMATION: Public Land Order (PLO) 7899, addressing lands in the Kobuk-Seward Peninsula planning area, was signed on January 11, 2021, and published in the Federal Register on January 19, 2021 (86 FR 5236). PLOs 7900, 7901, 7902, and 7903—addressing lands in the Ring of Fire, Bay, Bering Sea-Western Interior, and East Alaska planning areas respectively—were signed on January 15 and 16, 2021, but were never published in the Federal Register and therefore do not have an opening date. The Department extended the opening order for PLO 7899 by 60 days on February 18, 2021, to provide an opportunity to review the decisions and ensure the orderly management of the public lands (86 FR 10131). Subsequently, certain procedural and legal defects were identified in the decision-making process for these PLOs, including insufficient analysis under NEPA, failure to follow section 106 of the National Historic Preservation Act (NHPA), and possible failure to adequately evaluate impacts under section 7 of the Endangered Species Act (ESA). Due to these deficiencies, on April 16, 2021, the Department—relying on inherent authority to revisit decisions based on identified legal errors—delayed the opening of lands under PLO 7899 and the publication of PLOs 7900, 7901, 7902, and 7903 for up to two years.

In the meantime, the BLM has committed to undertaking a process to update the NEPA analysis for these decisions, comply with the consent requirements of Section 204(i) of FLPMA, and complete appropriate consultation under Section 106 of the NHPA, Section 7 of the ESA, and Section 810 of ANILCA in order to ensure that any decision to open some or all of the lands under reconsideration for selection under the Alaska Native Vietnam-Era Veterans Land Allotment Program is adequately supported under the law and, once conveyed, there are no questions about ownership of Alaska Native Veterans' allotments.

The Alaska Native Vietnam-Era Veterans Land Allotment Program was established by Section 1119 of the Dingell Act. Through this program, the BLM can provide eligible individuals the opportunity to select an allotment of up to 160 acres from vacant, unappropriated, and unreserved Federal lands in Alaska, or lands selected by the State of Alaska or Alaska Native corporations if that entity agrees to relinquish that portion of their selection. By law, lands will be available for selection only for a period of five years, which began when the regulations became effective on December 28, 2020, and continues through December 29, 2025. For more information on the Alaska Native Vietnam-Era Veterans Land Allotment Program, please visit https://www.blm.gov/programs/lands-and-realty/regional-information/alaska/land-transfer/ak-native-allotment-act/alaska-native-vietnam-veterans-land-allotment.

Currently, approximately 1.6 million acres of BLM-administered land in Alaska is available for selection by Alaska Native Veterans, including lands selected by the State of Alaska and Alaska Native Corporations. The areas subject to this review would—if opened for selection under the Alaska Native Vietnam-Era Veterans Land Allotment Program—make available up to 28 million additional acres of lands within the Kobuk-Seward Peninsula, Ring of Fire, Bay, Bering Sea-Western Interior, and East Alaska planning areas.

Because the Dingell Act allows eligible individuals to select lands for only a limited period, and consistent with the Congressional intent that the Alaska Native Vietnam-Era Veterans Land Allotment Program quickly convey allotments to eligible individuals, the BLM will hold any applications for lands covered by PLOs 7900, 7901, 7902, and 7903 within the Kobuk-Seward Peninsula, Bay, Ring of Fire, Bering Sea-Western Interior, and East Alaska planning areas while the agency completes the EA to consider opening the lands for selection. All complete applications for lands within those planning areas will be considered as simultaneously filed at the time that any lands covered by those applications are opened to selection. If the BLM receives applications for an allotment within these lands, the agency will send a letter acknowledging receipt and notifying the applicant that all valid applications received at or prior to 8 a.m. Alaska Time on April 16, 2023, or the time that the lands covered by the applications are opened to selection, would be considered as simultaneously filed at that time. If the lands selected are not made available at the end of this process, the BLM will provide the applicant notice and they will have 60 days to make a substitute selection.

The input of Alaska Native Tribes is of critical importance to this EA. Therefore, the BLM has already held a series of government-to-government consultations with Tribes and a consultation meeting with Alaska Native corporations. During the planning process, the BLM will continue to consult with potentially affected Federally recognized Tribes on a government-to-government basis, and with affected Alaska Native corporations in accordance with Executive Order 13175 and other policies. Native concerns, including impacts on Indian trust assets and potential impacts to cultural resources, will be given appropriate consideration. We respectfully request participation in consultation by these Alaska Native entities to receive their views and recommendations on lands to be opened for selection by eligible individuals. The BLM anticipates holding additional informational meetings and will also hold individual consultation meetings if requested.

The BLM will utilize and coordinate the NEPA process to help fulfill the public involvement process under the NHPA, including as provided in 36 CFR 800.2(d)(3). The information about historic and cultural resources within the area potentially affected by the proposed action will assist the BLM in identifying and evaluating impacts to such resources. Federal, State, and local agencies, along with Tribes and other stakeholders that may be interested in or affected by the proposed opening of lands withdrawn by Section 17(d)(1) of ANCSA to selection of allotments for the Alaska Native Vietnam-Era Veterans Land Allotment Program, are invited to participate in the scoping process and, if eligible, may request or be asked by the BLM to participate in the development of the EA as cooperating agencies. Potentially affected Tribes will receive a letter initiating consultation under Section 106 of the NHPA in the coming weeks and the BLM will work with consulting parties to schedule consultation meetings.

The BLM is seeking public comments on issues, planning criteria, concerns, potential impacts, alternatives, and mitigation measures that should be considered in the analysis. Substantive comments will be used to prepare an EA. Additional opportunities, for public participation will be available upon publication of the draft EA.

Before including your address, phone number, email address, or other personal identifying information in your comment, you should be aware that your entire comment—including your personal identifying information—may be made publicly available at any time. While you can ask us in your comment to withhold your personal identifying information from public review, we cannot guarantee that we will be able to do so.

Chad Padgett,
State Director, Alaska.

[FR Doc. 2021-15726 Filed 7-22-21; 8:45 am]

BILLING CODE 4310-JA-P